DEPARTMENT OF THE TREASURY

United States Mint

Pricing for America the Beautiful Five Ounce Silver Bullion Coin Presentation Case

AGENCY: United States Mint, Department of the Treasury.

ACTION: Notice.

SUMMARY: The United States Mint is announcing the price of the America the Beautiful Five Ounce Silver Bullion Coin Presentation Case.

A lot of 25 presentation cases will be offered for sale at a price of $86.95.

FOR FURTHER INFORMATION CONTACT: B. B. Craig, Associate Director for Sales and Marketing; United States Mint; 801 9th Street NW.; Washington, DC 20220; or call 202-354-7500.

(Authority: 31 U.S.C. 5111, 5112 & 9701.)

Dated: March 23, 2011.
Richard A. Peterson,
Acting Director, United States Mint.

[FR Doc. 2011-7360 Filed 3-28-11; 8:45 am]

BILLING CODE 4810-02-P